DEPARTMENT OF THE INTERIOR

National Park Service

Notice of Intent To Prepare a Draft Environmental Impact Statement for the General Management Plan (GMP) for Fort Pulaski National Monument, Savannah, GA

AGENCY: National Park Service, DOI.

SUMMARY: Pursuant to section 102(2)(C) of the National Environmental Policy Act of 1969, requirements of the National Parks and Recreation Act of 1978, Public Law 95-625, and National Park Service Policy in Director's Order Number 2 (Park Planning) and Director's Order Number 12 (Conservation Planning, Environmental Impact Analysis, and Decision-making) the National Park Service (NPS) will prepare an Environmental Impact Statement for the General Management Plan for Fort Pulaski National Monument located near Savannah, Georgia. The authority for publishing this notice is contained in 40 CFR 1506.6. The statement will assess potential environmental impacts associated with various types and levels of visitor use and resources management within the National Monument.

The NPS is currently accepting comments from interested parties on issues, concerns, and suggestions pertinent to the management of Fort Pulaski. Suggestions and ideas for managing the cultural and natural resources and visitor experiences at Fort Pulaski are encouraged. Comments may be submitted in writing to the address listed at the end of this notice or through the GMP Web site, which is linked to the park's Web site at http://www.nps.gov/fopu.

The NPS will publish periodic newsletters on the GMP Web site to present scoping issues and preliminary management concepts to the public as they are developed. Public meetings to present draft management concepts will be conducted in the local area. Specific locations, dates, and times will be announced in local media and on the GMP Web site.

If you wish to comment, you may submit your comments by any one of several methods. You may mail comments to Superintendent, Fort Pulaski National Monument, U.S. Highway 80 East, P.O. Box 30757, Savannah, Georgia 31410, Telephone: 912-786-5787. You may also comment via the Internet to http://www.planning.den.nps.gov/parkweb/comments.cfm?RecordID=165. Please submit Internet comments as an ASCII file avoiding the use of special characters and any form of encryption. Please also include your name and return address in your Internet message. If you do not receive a confirmation from the system that we have received your Internet message, contact us directly at 404-562-3124, ext. 685. Finally, you may hand-deliver comments to Fort Pulaski National Monument, Cockspur Island, U.S. Highway 80 East, Savannah, Georgia 31410. Our practice is to make comments, including names and home addresses of respondents, available for public review during regular business hours. Individual respondents may request that we withhold their home address from the rulemaking record, which we will honor to the extent allowable by law. There also may be circumstances in which we would withhold from the rulemaking record a respondent's identity, as allowable by law. If you wish us to withhold your name and/or address, you must state this prominently at the beginning of your comment. However, we will not consider anonymous comments. We will make all submissions from organizations or businesses, and from individuals identifying themselves as representatives or officials of organizations or businesses, available for public inspection in their entirety.

DATES: Locations, dates, and times of public meetings will be published in local newspapers and may also be obtained by contacting the NPS Southeast Regional Office, Division of Planning and Compliance. This information will also be published on the General Management Plan Web site for Fort Pulaski.

ADDRESSES: Scoping suggestions should be submitted to the following address to ensure adequate consideration by the Service: Superintendent, Fort Pulaski National Monument, U.S. Highway 80 East, P.O. Box 30757, Savannah, Georgia 31410, Telephone: 912-786-5787.

FOR FURTHER INFORMATION CONTACT: Superintendent, Fort Pulaski National Monument, U.S. Highway 80 East, P.O. Box 30757, Savannah, Georgia 31410, Telephone: 912-786-5787.

SUPPLEMENTARY INFORMATION: The Draft and Final General Management Plan and Environmental Impact Statement will be made available to all known interested parties and appropriate agencies. Full public participation by Federal, State, and local agencies as well as other concerned organizations and private citizens is invited throughout the preparation process of this document.

The responsible official for this Environmental Impact Statement is Patricia A. Hooks, Regional Director, Southeast Region, National Park Service, 100 Alabama Street, SW., 1924 Building, Atlanta, Georgia 30303.

Patricia A. Hooks,
Regional Director, Southeast Region.

[FR Doc. 05-3501 Filed 2-23-05; 8:45 am]

BILLING CODE 4312-52-P